SMALL BUSINESS ADMINISTRATION

[Declaration of Economic Injury Disaster #9O41]

State of Maine

Penobscot County and the contiguous counties of Aroostook, Hancock, Piscataquis, Somerset, Waldo and Washington in the State of Maine constitute an economic injury disaster loan area as a result of fires that occurred on January 17 and 20, 2002. Eligible small businesses and small agricultural cooperatives without credit available elsewhere may file applications for economic injury assistance until the close of business on October 31, 2002 at the address listed below or other locally announced locations: U.S. Small Business Administration, Disaster Area 1 Office, 360 Rainbow Blvd, South 3rd Floor, Niagara Falls, NY 14303.

The interest rate for eligible small businesses and small agricultural cooperatives is 3.5 percent.

The number assigned for economic injury for this disaster is 9O4100 for Maine.

(Catalog of Federal Domestic Assistance Program No. 59002.)
Dated: January 31, 2002.
Hector V. Barreto,
Administrator.

[FR Doc. 02-3061 Filed 2-7-02; 8:45 am]

BILLING CODE 8025-01-P